DEPARTMENT OF COMMERCE

Foreign-Trade Zones Board

[B-1-2025]

Foreign-Trade Zone (FTZ) 265; Authorization of Production Activity; Unimacts Company; (Steel Products); Conroe, Texas

On December 19, 2024, The City of Conroe Texas, grantee of FTZ 265, submitted a notification of proposed production activity to the FTZ Board on behalf of Unimacts Company, within FTZ 265, in Conroe, Texas.

The notification was processed in accordance with the regulations of the FTZ Board (15 CFR part 400), including notice in the Federal Register inviting public comment (90 FR 1435, January 8, 2025). On April 18, 2025, the applicant was notified of the FTZ Board's decision that no further review of the activity is warranted at this time. The production activity described in the notification was authorized, subject to the FTZ Act and the FTZ Board's regulations, including section 400.14.

Dated: April 18, 2025.
Elizabeth Whiteman,
Executive Secretary.

[FR Doc. 2025-07027 Filed 4-23-25; 8:45 am]

BILLING CODE 3510-DS-P